DEPARTMENT OF HEALTH AND HUMAN SERVICES

Food and Drug Administration

Drug Safety and Risk Management Advisory Committee; Amendment of Notice

AGENCY: Food and Drug Administration, HHS.

ACTION: Notice.

The Food and Drug Administration (FDA) is announcing an amendment to the notice of meeting of the Drug Safety and Risk Management Advisory Committee. This meeting was announced in the Federal Register of June 30, 2003 (68 FR 38713). The amendment is being made to reflect a change in the Location portion of the document. There are no other changes.

FOR FURTHER INFORMATION CONTACT: Kimberly Littleton Topper, Center for Drug Evaluation and Research (HFD-21), Food and Drug Administration, 5600 Fishers Lane (for express delivery, 5630 Fishers Lane, rm. 1093), Rockville, MD 20857, 301-827-7001, or FDA Advisory Committee Information Line, 1-800-741-8138 (301-443-0572 in the Washington, DC area), code 12535. Please call the Information Line for up-to-date information on this meeting.

SUPPLEMENTARY INFORMATION: In the Federal Register of June 30, 2003, FDA announced that a meeting of the Drug Safety and Risk Management Advisory Committee would be held on September 18, 2003. On page 38714, in the first column, the Location portion of the meeting is amended to read as follows:

Location: Holiday Inn, the Ballroom, 8777 Georgia Ave., Silver Spring, MD.

This notice is given under the Federal Advisory Committee Act (5 U.S.C. app. 2) and 21 CFR part 14, relating to advisory committees.

Dated: July 17, 2003.
Peter J. Pitts,
Associate Commissioner for External Relations.

[FR Doc. 03-18633 Filed 7-22-03; 8:45 am]

BILLING CODE 4160-01-S